SMALL BUSINESS ADMINISTRATION

Advisory Committee on Veterans Business Affairs

AGENCY: U.S. Small Business Administration (SBA).

ACTION: Notice of open Federal Advisory Committee Meeting.

SUMMARY: The SBA is issuing this notice to announce the location, date, time, and agenda for the next meeting of the Advisory Committee on Veterans Business Affairs. The meeting is open to the public.

DATES: Wednesday, March 9, 2016, from 9 a.m. to 4 p.m.

ADDRESSES: U.S. Small Business Administration, 409 3rd Street SW., Washington, DC 20416. ROOM: Eisenhower Conference Room B, Concourse Level.

SUPPLEMENTARY INFORMATION: Pursuant to section 10(a) (2) of the Federal Advisory Committee Act (5 U.S.C., Appendix 2), SBA announces the meeting of the Advisory Committee on Veterans Business Affairs (ACVBA). The ACVBA serves as an independent source of advice and policy recommendation to the Administrator of the U.S. Small Business Administration.

The purpose of this meeting is to discuss the formation and growth of small business concerns owned and controlled by veterans and service disabled-veterans, to focus on strategic planning, and provide updates on past and current events, and to discuss the Committee's objectives for 2016. For information regarding SBA veterans' resources and partners, please visit: www.sba.gov/vets.

Additional Information: Advance notice of attendance is requested. Individuals desiring to attend and/or make a presentation to the Committee must contact Ms. Cheryl Simms, ACVBA Program Liaison, Office of Veterans Business Development, SBA, at by February 26, 2016. Comments for public record should be emailed to address above prior to the meeting. Verbal comments will be limited to five minutes to accommodate multiple participants. Participants requiring special accommodations or additional information should send requests to Ms. Simms at above email address.

Dated: February 2, 2016.
Miguel J. L'Heureux,
SBA Committee Management Officer.

[FR Doc. 2016-02681 Filed 2-9-16; 8:45 am]

BILLING CODE P